DEPARTMENT OF TRANSPORTATION

Federal Aviation Administration

14 CFR Part 39

[Docket No. FAA-2009-0713; Directorate Identifier 2007-NM-303-AD; Amendment 39-16180; AD 2010-02-09]

RIN 2120-AA64

Airworthiness Directives; Airbus Model A318 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Some operators have reported airframe vibration under specific flight conditions including gusts.

Investigations have revealed that under such conditions, vibrations may occur when the hinge moment of the elevator is close to zero, associated to elevator free-play.

* * * * *

The unsafe condition is excessive vibration of the elevators, which could result in reduced structural integrity and reduced controllability of the airplane. We are issuing this AD to require actions to correct the unsafe condition on these products.

DATES: This AD becomes effective March 2, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION:

Discussion

We issued a notice of proposed rulemaking (NPRM) to amend 14 CFR part 39 to include an AD that would apply to the specified products. That NPRM was published in the Federal Register on August 13, 2009 (74 FR 40776). That NPRM proposed to correct an unsafe condition for the specified products. The MCAI states:

Some operators have reported airframe vibration under specific flight conditions including gusts.

Investigations have revealed that under such conditions, vibrations may occur when the hinge moment of the elevator is close to zero, associated to elevator free-play.

* * * * *

The unsafe condition is excessive vibration of the elevators, which could result in reduced structural integrity and reduced controllability of the airplane. The corrective action includes inspecting the elevators for excessive freeplay, and repairing the elevator or servo controls, if necessary. You may obtain further information by examining the MCAI in the AD docket.

Comments

We gave the public the opportunity to participate in developing this AD. We considered the comment received. The commenter, Airbus, states that it has no comment on the NPRM.

Conclusion

We reviewed the available data, including the comment received, and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD affects 11 products of U.S. registry. We also estimate that it will take about 2 work-hours per product to comply with the basic requirements of this AD. The average labor rate is $80 per work-hour. Based on these figures, we estimate the cost of this AD to the U.S. operators to be $1,760, or $160 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-02-09 Airbus: Amendment 39-16180. Docket No. FAA-2009-0713; Directorate Identifier 2007-NM-303-AD.

Effective Date

(a) This airworthiness directive (AD) becomes effective March 2, 2010.

Affected ADs

(b) None.

Applicability

(c) This AD applies to all Airbus Model A318 series airplanes; certificated in any category.

Subject

(d) Air Transport Association (ATA) of America Code 27: Flight Controls.

Reason

(e) The mandatory continuing airworthiness information (MCAI) states:

Some operators have reported airframe vibration under specific flight conditions including gusts.

Investigations have revealed that under such conditions, vibrations may occur when the hinge moment of the elevator is close to zero, associated to elevator free-play.

* * * * *

The unsafe condition is excessive vibration of the elevators, which could result in reduced structural integrity and reduced controllability of the airplane. The corrective action includes inspecting the elevators for excessive freeplay, and repairing the elevator or servo controls, if necessary.

Actions and Compliance

(f) Unless already done, do the following actions.

(1) At the later of the times specified in paragraphs (f)(1)(i) and (f)(1)(ii) of this AD, inspect the elevators for excessive freeplay, using a load application tool and a spring scale assembly, in accordance with a method approved by the Manager, International Branch, ANM-116, Transport Airplane Directorate, FAA; or the European Aviation Safety Agency (EASA) (or its delegated agent). Repeat the inspection at intervals not to exceed 20 months.

Note 1: Guidance on the inspection procedures can be found in Task 27-34-00-200-001 of the Airbus A318/A319/A320/A321 Aircraft Maintenance Manual (AMM).

(i) Within 20 months since the date of issuance of the original French, German, or EASA airworthiness certificate or the date of issuance of the original French, German, or EASA export certificate of airworthiness, or within 3 months after the effective date of this AD, whichever occurs later.

(ii) Within 20 months since the last inspection of the elevators for excessive freeplay performed in accordance with Task 27-34-00-200-001 of the Airbus A318/A319/A320/A321 AMM.

(2) If any inspection required by paragraph (f)(1) of this AD indicates that the freeplay in the elevator exceeds 7 millimeters, before further flight, repair the elevator or servo controls in accordance with a method approved by the Manager, International Branch, ANM-116, Transport Airplane Directorate, FAA; or the EASA (or its delegated agent).

FAA AD Differences

Note 2: This AD differs from the MCAI and/or service information as follows:

(1) The EASA AD applies to Airbus Model A318, A319, A320, and A321 series airplanes, but the FAA AD applies only to Airbus Model A318 series airplanes. The actions required by the EASA AD for Airbus Model A319, A320, and A321 series airplanes are addressed in FAA AD 2001-16-09, Amendment 39-12377; and FAA AD 2005-22-10 R1, Amendment 39-14354.

(2) This FAA AD does not require modification of the elevator neutral setting as specified in paragraph 2. of the EASA AD because this modification is already part of the FAA-approved type design for Airbus Model A318 series airplanes.

(3) This FAA AD does not require a detailed inspection to determine the position of each tail cone triangle as specified in paragraph 3. of the EASA AD because that action was already accomplished on all Airbus Model A318 series airplanes during production.

Other FAA AD Provisions

(g) The following provisions also apply to this AD:

(1) Alternative Methods of Compliance (AMOCs): The Manager, International Branch, FAA, has the authority to approve AMOCs for this AD, if requested using the procedures found in 14 CFR 39.19. Send information to ATTN: Tim Dulin, Aerospace Engineer, International Branch, ANM-116, Transport Airplane Directorate, FAA, 1601 Lind Avenue, SW., Renton, Washington 98057-3356; telephone (425) 227-2141; fax (425) 227-1149. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI EASA Airworthiness Directive 2007-0163, dated June 11, 2007, for related information.

Material Incorporated by Reference

(i) None.

Issued in Renton, Washington, on January 14, 2010.
Ali Bahrami,
Manager, Transport Airplane Directorate, Aircraft Certification Service.

[FR Doc. 2010-1290 Filed 1-25-10; 8:45 am]

BILLING CODE 4910-13-P